DEPARTMENT OF COMMERCE

Bureau of Industry and Security

Materials Technical Advisory Committee; Notice of Open Meeting

The Materials Technical Advisory Committee (MTAC) will meet on December 10, 2009, 10 a.m., in the Herbert C. Hoover Building, Room 6087B, 14th Street between Constitution & Pennsylvania Avenues, NW., Washington, DC. The Committee advises the Office of the Assistant Secretary for Export Administration with respect to technical questions that affect the level of export controls applicable to advanced materials and related technology.

Agenda

1. Opening remarks and Introductions.

2. Report on Update 2009 by Chemical and Biological Controls Division Personnel.

3. Report on Missile Technology Control Regime Technical Experts Meeting and Plenary of November, 2009.

4. Report on Composite Working Group and Export Control Classification Review Subgroup.

5. Report on Status of 1.C.8 Proposal and Others at Wassenaar Arrangement.

6. Presentation on Exports Controls for Biological Agents and Processing Equipment.

7. New Business.

8. Public Comments from Teleconference and Physical Attendees.

The open session will be accessible via teleconference to 20 participants on a first come, first serve basis. To join the conference, submit inquiries to Ms. Yvette Springer at Yspringer@bis.doc.gov no later than December 3, 2009.

A limited number of seats will be available during the public session of the meeting. Reservations are not accepted. To the extent time permits, members of the public may present oral statements to the Committee. Written statements may be submitted at any time before or after the meeting. However, to facilitate distribution of public presentation materials to Committee members, the materials should be forwarded prior to the meeting to Ms. Springer via e-mail.

For more information contact Yvette Springer on (202) 482-2813.

Dated: November 18, 2009.
Yvette Springer,
Committee Liaison Officer.

[FR Doc. E9-28191 Filed 11-23-09; 8:45 am]

BILLING CODE 3510-JT-P